SMALL BUSINESS ADMINISTRATION

Senior Executive Service: Performance Review Board Members

AGENCY: U.S. Small Business Administration.

ACTION: Notice of Members for the FY 08 Performance Review Board.

SUMMARY: Section 43 14(c)(4) of Title 5, U.S.C., requires each agency to publish notification of the appointment of individuals who may serve as members of that Agency's Performance Review Board (PRB). The following individuals have been designated to serve on the FY 08 Performance Review Board for the U.S. Small Business Administration:

1. Robert F. Danbeck, Chair, Associate Administrator for Management and Administration;

2. Bridget E. Bean, Deputy Associate Administrator for Field Operations;

3. Delorice Price Ford, Assistant Administrator for Hearings and Appeals;

4. Grady B. Hedgespeth, Director of Financial Assistance;

5. Judith A. Roussel, District Director, Illinois District Office;

6. C. Edward Rowe, III, Assistant Administrator for Congressional and Legislative Affairs; and

7. Sean G. Rushton, Assistant Administrator for Communication and Public Liaison.

Sandy K. Baruah,
Acting Administrator.

[FR Doc. E8-25814 Filed 10-30-08; 8:45 am]

BILLING CODE 8025-01-M